DEPARTMENT OF COMMERCE

National Oceanic and Atmospheric Administration

RIN 0648-XA172

Marine Mammals; File No. 15453

AGENCY: National Marine Fisheries Service (NMFS), National Oceanic and Atmospheric Administration (NOAA), Commerce.

ACTION: Notice; receipt of application.

SUMMARY: Notice is hereby given that the Waikiki Aquarium, 2777 Kalakaua Avenue, Honolulu, HI 96815 (Dr. Andrew Rossiter, Responsible Party), has applied in due form for a permit to conduct research on and enhancement of captive Hawaiian monk seals.

DATES: Written, telefaxed, or e-mailed comments must be received on or before February 28, 2011.

ADDRESSES: The application and related documents are available for review by selecting “Records Open for Public Comment” from the Features box on the Applications and Permits for Protected Species (APPS) home page, https://apps.nmfs.noaa.gov, and then selecting File No. 15453 from the list of available applications.

These documents are also available upon written request or by appointment in the following office(s):

Permits, Conservation and Education Division, Office of Protected Resources, NMFS, 1315 East-West Highway, Room 13705, Silver Spring, MD 20910; phone (301) 713-2289; fax (301) 713-0376; and

Pacific Islands Region, NMFS, 1601 Kapiolani Blvd., Rm 1110, Honolulu, HI 96814-4700; phone (808) 944-2200; fax (808) 973-2941.

Written comments on this application should be submitted to the Chief, Permits, Conservation and Education Division, at the address listed above. Comments may also be submitted by facsimile to (301) 713-0376, or by e-mail to NMFS.Pr1Comments@noaa.gov. Please include the File No. in the subject line of the e-mail comment.

Those individuals requesting a public hearing should submit a written request to the Chief, Permits, Conservation and Education Division at the address listed above. The request should set forth the specific reasons why a hearing on this application would be appropriate.

FOR FURTHER INFORMATION CONTACT: Amy Sloan or Jennifer Skidmore, (301) 713-2289.

SUPPLEMENTARY INFORMATION: The subject permit is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR 222-226).

The Waikiki Aquarium is requesting a 5-year permit to continue to maintain in captivity two male non-releasable Hawaiian monk seals for research and enhancement purposes. Research proposed includes continuation of a long-term study on the digestive efficiency of the captive seals as they age using voluntary behaviors to collect bi-monthly weights and blubber ultrasound measurements. Seals would also be fed chromic oxide up to 72 times per year and marked, voided feces would be collected for determination of digestive efficiency. A second study proposed includes post-vaccination antibody response trials. West Nile virus (WNV) and canine distemper viruses (CDV) are considered a potential threat for the wild Hawaiian monk seal population. Each seal would be vaccinated twice for CDV and WNV, and to assess the effectiveness of the vaccines, blood and nasal swabs would be taken four times over the period of one year for antibody detection. The seals would be displayed to the public incidental to the research program, and the Waikiki Aquarium provides daily public narrations and informative educational graphics about the Hawaiian monk seal.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: January 24, 2011.
P. Michael Payne,
Chief, Permits, Conservation and Education Division, Office of Protected Resources, National Marine Fisheries Service.

[FR Doc. 2011-1789 Filed 1-24-11; 4:15 pm]

BILLING CODE 3510-22-P